DEPARTMENT OF COMMERCE

International Trade Administration

[A-533-871, A-475-835, A-469-815]

Finished Carbon Steel Flanges From India, Italy, and Spain: Initiation of Less-Than-Fair-Value Investigations

AGENCY: Enforcement and Compliance, International Trade Administration, Department of Commerce.

DATES: Effective Date: July 20, 2016.

FOR FURTHER INFORMATION CONTACT: Fred Baker at (202) 482-2924 (India); Moses Song or Edythe Artman at (202) 482-5041 or (202) 482-3931, respectively (Italy); and Michael Heaney at (202) 482-4475 (Spain), AD/CVD Operations, Enforcement and Compliance, U.S. Department of Commerce, 14th Street and Constitution Avenue NW., Washington, DC 20230.

SUPPLEMENTARY INFORMATION:

The Petitions

On June 30, 2016, the Department of Commerce (the Department) received antidumping duty (AD) petitions concerning imports of finished carbon steel flanges (steel flanges) from India, Italy, and Spain, filed in proper form on behalf of Weldbend Corporation and Boltex Mfg. Co., L.P. (Petitioners).¹ The Petitions were accompanied by a countervailing duty (CVD) petition on steel flanges from India.² Petitioners are domestic producers of steel flanges.³

¹ See Petitions for the Imposition of Antidumping Duties on Imports of Finished Carbon Steel Flanges from India, Italy and Spain and Countervailing Duties on Imports from India, dated June 30, 2016 (the Petitions).

² Id.

³ See Volume I of the Petitions, at 2, and Exhibit I-15.

On July 6, 8, and 12, 2016, the Department requested additional information and clarification of certain areas of the Petitions.⁴ Petitioners filed responses to these requests on July 8 and 13, 2016, respectively.⁵

⁴ See Letter from the Department to Petitioners entitled “Petitions for the Imposition of Antidumping Duties on Imports of Finished Carbon Steel Flanges from India, Italy, and Spain and Countervailing Duties on Imports from India: Supplemental Questions,” dated July 6, 2016 (General Issues Supplemental Questionnaire); see also Letter from the Department to Petitioners entitled “Petition for the Imposition of Antidumping Duties on Imports of Finished Carbon Steel Flanges from India: Supplemental Questions,” dated July 6, 2016 (India Supplemental Questionnaire); see also Letter from the Department to Petitioners entitled “Petition for the Imposition of Antidumping Duties on Imports of Finished Carbon Steel Flanges from Italy: Supplemental Questions,” dated July 6, 2016 (Italy Supplemental Questionnaire); see also Letter from the Department to Petitioners entitled “Petition for the Imposition of Antidumping Duties on Imports of Finished Carbon Steel Flanges from Spain: Supplemental Questions,” dated July 6, 2016 (Spain Supplemental Questionnaire); see also Letter from the Department to Petitioners entitled “Petitions for the Imposition of Antidumping Duties on Imports of Finished Carbon Steel Flanges from India, Italy, and Spain and Countervailing Duties on Imports from India: Supplemental Questions,” dated July 8, 2016 (Second General Issues Supplemental Questionnaire); see also Letter from the Department to Petitioners entitled “Petition for the Imposition of Antidumping Duties on Imports of Finished Carbon Steel Flanges from Italy: Supplemental Questions,” dated July 12, 2016 (Italy Second Supplemental Questionnaire); see also Letter from the Department to Petitioners entitled “Petition for the Imposition of Antidumping Duties on Imports of Finished Carbon Steel Flanges from Italy: Supplemental Questions,” dated July 12, 2016 (Spain Second Supplemental Questionnaire).

⁵ See Letter from Petitioner to the Department entitled “Re: Finished Carbon Steel Flanges from India, Italy and Spain: Supplemental Questionnaire Response Regarding the Antidumping Petition—General Questions,” dated July 8, 2016 (General Issues Supplement); see also Letter from Petitioner to the Department entitled “Re: Finished Carbon Steel Flanges from India: Supplemental Questionnaire Response Regarding the Antidumping Petition—General Questions,” dated July 8, 2016 (India Supplement); see also Letter from Petitioner to the Department entitled “Re: Finished Carbon Steel Flanges from Italy: Supplemental Questionnaire Response Regarding the Antidumping Petition—General Questions,” dated July 8, 2016 (Italy Supplement); see also Letter from Petitioner to the Department entitled “Re: Finished Carbon Steel Flanges from Spain: Supplemental Questionnaire Response Regarding the Antidumping Petition—General Questions,” dated July 8, 2016 (Spain Supplement); see also Letter from Petitioner to the Department entitled “Re: Finished Carbon Steel Flanges from India, Italy and Spain: 2nd Supplemental Questions Response,” dated July 13, 2016 (Second General Issues Supplement) see also Letter from Petitioner to the Department entitled “Re: Finished Carbon Steel Flanges from ltaly: 2nd Supplemental Questionnaire Response,” dated July 8, 2016 (Italy Second Supplement); see also Letter from Petitioner to the Department entitled “Re: Finished Carbon Steel Flanges from Spain: 2nd Supplemental Questionnaire Response,” dated July 8, 2016 (Spain Second Supplement).

In accordance with section 732(b) of the Tariff Act of 1930, as amended (the Act), Petitioners allege that imports of steel flanges from India, Italy, and Spain are being, or are likely to be, sold in the United States at less-than-fair value within the meaning of section 731 of the Act, and that such imports are materially injuring, or threatening material injury to, an industry in the United States. Also, consistent with section 732(b)(1) of the Act, the Petitions are accompanied by information reasonably available to Petitioners supporting their allegations.

The Department finds that Petitioners filed these Petitions on behalf of the domestic industry because Petitioners are interested parties as defined in section 771(9)(C) of the Act. The Department also finds that Petitioners demonstrated sufficient industry support with respect to the initiation of the AD investigations that Petitioners are requesting.⁶

⁶ See the “Determination of Industry Support for the Petitions” section below.

Period of Investigation

Because the Petitions were filed on June 30, 2016, the period of investigation (POI) for each investigation is, pursuant to 19 CFR 351.204(b)(1), April 1, 2015, through March 31, 2016.

Scope of the Investigations

The product covered by these investigations is steel flanges from India, Italy, and Spain. For a full description of the scope of these investigations, see the “Scope of the Investigations,” at Appendix I of this notice.

Comments on Scope of the Investigations

During our review of the Petitions, the Department issued questions to, and received responses from, Petitioners pertaining to the proposed scope to ensure that the scope language in the Petitions would be an accurate reflection of the products for which the domestic industry is seeking relief.⁷

⁷ See General Issues Supplemental Questionnaire and Second General Issues Supplemental Questionnaire; see also General Issues Supplement and Second General Issues Supplement.

As discussed in the preamble to the Department's regulations, we are setting aside a period for interested parties to raise issues regarding product coverage (scope). The Department will consider all comments received from parties and, if necessary, will consult with parties prior to the issuance of the preliminary determinations. If scope comments include factual information (see 19 CFR 351.102(b)(21)), all such factual information should be limited to public information. In order to facilitate preparation of its questionnaires, the Department requests all interested parties to submit such comments by 5:00 p.m. Eastern Daylight Time (EDT) on August 9, 2016, which is 20 calendar days from the signature date of this notice. Any rebuttal comments, which may include factual information, must be filed by 5:00 p.m. EDT on August 19, 2016, which is 10 calendar days after the initial comments.

The Department requests that any factual information the parties consider relevant to the scope of the investigations be submitted during this time period. However, if a party subsequently finds that additional factual information pertaining to the scope of the investigations may be relevant, the party may contact the Department and request permission to submit the additional information. All such comments must be filed on the records of each of the concurrent AD and CVD investigations.

Filing Requirements

All submissions to the Department must be filed electronically using Enforcement and Compliance's Antidumping and Countervailing Duty Centralized Electronic Service System (ACCESS).⁸ An electronically filed document must be received successfully in its entirety by the time and date when it is due. Documents excepted from the electronic submission requirements must be filed manually (i.e., in paper form) with Enforcement and Compliance's APO/Dockets Unit, Room 18022, U.S. Department of Commerce, 14th Street and Constitution Avenue NW., Washington, DC 20230, and stamped with the date and time of receipt by the applicable deadlines.

⁸ See Antidumping and Countervailing Duty Proceedings: Electronic Filing Procedures; Administrative Protective Order Procedures, 76 FR 39263 (July 6, 2011) for details of the Department's electronic filing requirements, which went into effect on August 5, 2011. Information on help using ACCESS can be found at https://access.trade.gov/help.aspx and a handbook can be found at https://access.trade.gov/help/Handbook%20on%20Electronic%20Filling%20Procedures.pdf.

Comments on Product Characteristics for AD Questionnaires

The Department will be giving interested parties an opportunity to provide comments on the appropriate physical characteristics of steel flanges to be reported in response to the Department's AD questionnaires. This information will be used to identify the key physical characteristics of the merchandise under consideration in order to report the relevant costs of production accurately as well as to develop appropriate product-comparison criteria.

Interested parties may provide any information or comments that they feel are relevant to the development of an accurate list of physical characteristics. Specifically, they may provide comments as to which characteristics are appropriate to use as: (1) General product characteristics and (2) product-comparison criteria. We note that it is not always appropriate to use all product characteristics as product-comparison criteria. We base product-comparison criteria on meaningful commercial differences among products. In other words, although there may be some physical product characteristics utilized by manufacturers to describe steel flanges, it may be that only a select few product characteristics take into account commercially meaningful physical characteristics. In addition, interested parties may comment on the order in which the physical characteristics should be used in matching products. Generally, the Department attempts to list the most important physical characteristics first and the least important characteristics last.

In order to consider the suggestions of interested parties in developing and issuing the AD questionnaires, all comments must be filed by 5:00 p.m. EDT on August 9, 2016, which is 20 calendar days from the signature date of this notice. Any rebuttal comments must be filed by 5:00 p.m. EDT on August 19, 2016. All comments and submissions to the Department must be filed electronically using ACCESS, as explained above, on the records of the India, Italy, and Spain less-than-fair-value investigations, as well as the India countervailing duty investigation.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, the Department shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product,⁹ they do so for different purposes and pursuant to a separate and distinct authority. In addition, the Department's determination is subject to limitations of time and information. Although this may result in different definitions of the like product, such differences do not render the decision of either agency contrary to law.¹⁰

⁹ See section 771(10) of the Act.

¹⁰ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the Petitions).

With regard to the domestic like product, Petitioners do not offer a definition of the domestic like product distinct from the scope of the investigations. Based on our analysis of the information submitted on the record, we have determined that steel flanges constitute a single domestic like product and we have analyzed industry support in terms of that domestic like product.¹¹

¹¹ For a discussion of the domestic like product analysis in this case, see Antidumping Duty Investigation Initiation Checklist: Finished Carbon Steel Flanges from India (India AD Initiation Checklist), at Attachment II, Analysis of Industry Support for the Antidumping and Countervailing Duty Petitions Covering Finished Carbon Steel Flanges from India, Italy, and Spain (Attachment II); Antidumping Duty Investigation Initiation Checklist: Finished Carbon Steel Flanges from Italy (Italy AD Initiation Checklist), at Attachment II; and Antidumping Duty Investigation Initiation Checklist: Finished Carbon Steel Flanges from Spain (Spain AD Initiation Checklist), at Attachment II. These checklists are dated concurrently with this notice and on file electronically via ACCESS. Access to documents filed via ACCESS is also available in the Central Records Unit, Room B8024 of the main Department of Commerce building.

In determining whether Petitioners have standing under section 732(c)(4)(A) of the Act, we considered the industry support data contained in the Petitions with reference to the domestic like product as defined in the “Scope of the Investigations,” in Appendix I of this notice. Petitioners provided their production of the domestic like product in 2015,¹² as well as an estimate of the total 2015 production of the domestic like product for the entire domestic industry.¹³ To establish industry support, Petitioners compared their own production to the estimated total production of the domestic like product for the entire domestic industry.¹⁴

¹² See Volume I of the Petitions, at Exhibits I-15-A and I-15-B.

¹³ See Volume I of the Petitions, at Exhibit I-15.

¹⁴ Id.

Our review of the data provided in the Petitions and other information readily available to the Department indicates that Petitioners have established industry support.¹⁵ First, the Petitions established support from domestic producers (or workers) accounting for more than 50 percent of the total production of the domestic like product and, as such, the Department is not required to take further action in order to evaluate industry support (e.g., polling).¹⁶ Second, the domestic producers (or workers) have met the statutory criteria for industry support under section 732(c)(4)(A)(i) of the Act because the domestic producers (or workers) who support the Petitions account for at least 25 percent of the total production of the domestic like product.¹⁷ Finally, the domestic producers (or workers) have met the statutory criteria for industry support under section 732(c)(4)(A)(ii) of the Act because the domestic producers (or workers) who support the Petitions account for more than 50 percent of the production of the domestic like product produced by that portion of the industry expressing support for, or opposition to, the Petitions.¹⁸ Accordingly, the Department determines that the Petitions were filed on behalf of the domestic industry within the meaning of section 732(b)(1) of the Act.

¹⁵ See India AD Initiation Checklist, Italy AD Initiation Checklist, and Spain AD Initiation Checklist, at Attachment II.

¹⁶ See section 732(c)(4)(D) of the Act; see also India AD Initiation Checklist, Italy AD Initiation Checklist, and Spain AD Initiation Checklist, at Attachment II.

¹⁷ See India AD Initiation Checklist, Italy AD Initiation Checklist, and Spain AD Initiation Checklist, at Attachment II.

¹⁸ Id.

The Department finds that Petitioners filed the Petitions on behalf of the domestic industry because they are interested parties as defined in section 771(9)(C) of the Act and they have demonstrated sufficient industry support with respect to the AD investigations that they are requesting the Department initiate.¹⁹

¹⁹ See India AD Initiation Checklist, Italy AD Initiation Checklist, and Spain AD Initiation Checklist, at Attachment II.

Allegations and Evidence of Material Injury and Causation

Petitioners allege that the U.S. industry producing the domestic like product is being materially injured, or is threatened with material injury, by reason of the imports of the subject merchandise sold at less than normal value (NV). In addition, Petitioners allege that subject imports exceed the negligibility threshold provided for under section 771(24)(A) of the Act.²⁰

²⁰ See Volume I of the Petitions, at 18-19; see also General Issues Supplement, at 6 and Exhibit 3.

Petitioners contend that the industry's injured condition is illustrated by reduced market share, underselling and price suppression or depression, lost sales and revenues, declines in production, capacity utilization, and U.S. shipments, negative impact on employment variables, and decline in financial performance.²¹ We have assessed the allegations and supporting evidence regarding material injury, threat of material injury, and causation, and we have determined that these allegations are properly supported by adequate evidence, and meet the statutory requirements for initiation.²²

²¹ See Volume I of the Petitions, at 12-16, 18-34 and Exhibits I-2, I-9 and I-11 through I-14; see also General Issues Supplement, at 6 and Exhibit 3.

²² See India AD Checklist, at Attachment III, Analysis of Allegations and Evidence of Material Injury and Causation for the Antidumping and Countervailing Duty Petitions Covering Finished Carbon Steel Flanges from the India, Italy, and Spain (Attachment III); see also Italy AD Checklist, at Attachment III; and Spain AD Checklist, at Attachment III.

Allegations of Sales at Less-Than-Fair Value

The following is a description of the allegations of sales at less-than-fair value upon which the Department based its decision to initiate investigations of imports of steel flanges from India, Italy, and Spain. The sources of data for the deductions and adjustments relating to U.S. price and NV are discussed in greater detail in the country-specific initiation checklists.

Export Price

For India, Italy, and Spain, Petitioners based export price (EP) U.S. prices on average unit values (AUVs) calculated using publicly available import statistics from the ITC's Dataweb for each country under the relevant Harmonized Tariff Schedule of the United States (HTSUS) subheadings for steel flanges.²³ To calculate ex-factory prices, Petitioners made deductions from U.S. price for movement expenses, consistent with the manner in which the data is reported in Dataweb.²⁴

²³ See India AD Checklist, Italy AD Checklist, and Spain AD Checklist.

²⁴ Id.

Normal Value

For India and Italy, Petitioners provided home market price information obtained through market research for steel flanges produced and offered for sale in India and Italy,²⁵ and supported this information with an affidavit or declaration from a market researcher for the price information.²⁶ Petitioners made no adjustments to the India or Italy offer price to calculate NV, as none were warranted by the terms associated with the offers.²⁷

²⁵ See India AD Checklist and Italy AD Checklist.

²⁶ See India AD Checklist, Italy AD Checklist, and Spain AD Checklist.

²⁷ See India AD Checklist and Italy AD Checklist.

Normal Value Based on Constructed Value

Pursuant to section 773(b)(3) of the Act, COP consists of the cost of manufacturing (COM), SG&A expenses, financial expenses, and packing expenses. Petitioners calculated COM based on Petitioners' experience, adjusted for known differences between producing in the United States and producing in the respective country (i.e., Italy and Spain), during the proposed POI.²⁸ Using publicly-available data to account for price differences, Petitioners multiplied the surrogate usage quantities by the submitted value of the inputs used to manufacture steel flanges in each country.²⁹ For Italy and Spain, labor rates were derived from publicly available sources multiplied by the product-specific usage rates.³⁰ For Italy and Spain, to determine factory overhead, SG&A, and financial expense rates, Petitioners relied on financial statements of companies that were producers of identical or comparable merchandise operating in the respective foreign country.³¹

²⁸ See Italy AD Checklist and Spain AD Checklist.

²⁹ See Italy AD Checklist and Spain AD Checklist.

³⁰ Id.

³¹ Id.

For Italy, pursuant to sections 773(a)(4), 773(b), and 773(e) of the Act, Petitioners provided information that sales of steel flanges in the home market were made at prices below the cost of production (COP) and also calculated NV based on constructed value (CV).³² For Spain, Petitioners were unable to obtain home market prices and, pursuant to sections 773(a)(4), 773(b) and 773(e) of the Act, calculated NV based on CV.³³ Pursuant to section 773(e) of the Act, CV consists of the COM, SG&A expenses, financial expenses, packing expenses, and profit. Petitioners calculated CV using the same average COM, SG&A expenses, and financial expenses, used to calculate COP.³⁴ Petitioners relied on the financial statements of the same producers that they used for calculating manufacturing overhead, SG&A expenses, and financial expenses to calculate the profit rate.³⁵

³² See Italy AD Checklist.

³³ See Spain AD Checklist.

³⁴ See Italy AD Checklist and Spain AD Checklist.

³⁵ Id.

Fair Value Comparisons

Based on the data provided by Petitioners, there is reason to believe that imports of steel flanges from India, Italy, and Spain, are being, or are likely to be, sold in the United States at less-than-fair value. Based on comparisons of EP to NV in accordance with section 773(a) of the Act, the estimated dumping margin(s) for steel flanges are as follows: (1) India ranges from 17.80 to 37.84 percent; ³⁶ (2) Italy ranges from 15.76 percent to 204.53 percent; ³⁷ and (3) Spain ranges from 13.19 percent to 24.43 percent.³⁸

³⁶ See India AD Checklist.

³⁷ See Italy AD Checklist.

³⁸ See Spain AD Checklist.

Initiation of Less-Than-Fair-Value Investigations

Based upon the examination of the AD Petitions on steel flanges from India, Italy, and Spain, we find that Petitions meet the requirements of section 732 of the Act. Therefore, we are initiating AD investigations to determine whether imports of steel flanges for India, Italy, and Spain are being, or are likely to be, sold in the United States at less-than-fair value. In accordance with section 733(b)(1)(A) of the Act and 19 CFR 351.205(b)(1), unless postponed, we will make our preliminary determinations no later than 140 days after the date of this initiation.

On June 29, 2015, the President of the United States signed into law the Trade Preferences Extension Act of 2015, which made numerous amendments to the AD and CVD law.³⁹ The 2015 law does not specify dates of application for those amendments. On August 6, 2015, the Department published an interpretative rule, in which it announced the applicability dates for each amendment to the Act, except for amendments contained in section 771(7) of the Act, which relate to determinations of material injury by the ITC.⁴⁰ The amendments to sections 771(15), 773, 776, and 782 of the Act are applicable to all determinations made on or after August 6, 2015, and, therefore, apply to these AD investigations.⁴¹

³⁹ See Trade Preferences Extension Act of 2015, Public Law 114-27, 129 Stat. 362 (2015).

⁴⁰ See Dates of Application of Amendments to the Antidumping and Countervailing Duty Laws Made by the Trade Preferences Extension Act of 2015, 80 FR 46793 (August 6, 2015) (Applicability Notice).

⁴¹ Id., at 46794-95. The 2015 amendments may be found at https://www.congress.gov/bill/114th-congress/house-bill/1295/text/pl.

Respondent Selection

Petitioners named 31 companies in India, 26 companies in Italy, and 6 companies in Spain as producers/exporters of steel flanges.⁴² Following standard practice in AD investigations involving market economy countries, in the event the Department determines that the number of companies is large and it cannot individually examine each company based upon the Department's resources, where appropriate, the Department intends to select respondents based on U.S. Customs and Border Protection (CBP) data for U.S. imports under the appropriate Harmonized Tariff Schedule of the United States numbers listed with the scope in Appendix I, below. We also intend to release the CBP data under Administrative Protective Order (APO) to all parties with access to information protected by APO on the record within five business days of publication of this Federal Register notice. Comments regarding the CBP data and respondent selection should be submitted seven calendar days after the placement of the CBP data on the record of these investigations. Parties wishing to submit rebuttal comments should submit those comments five calendar days after the deadline for the initial comments.

⁴² See Volume I of the Petitions, at Exhibit I-6, Exhibit I-7, and Exhibit I-8.

Comments for the above-referenced investigations must be filed electronically using ACCESS. An electronically-filed document must be received successfully in its entirety by the Department's electronic records system, ACCESS, by 5:00 p.m. EDT by the dates noted above. We intend to make our decision regarding respondent selection within 20 days of publication of this notice.

Distribution of Copies of the Petitions

In accordance with section 732(b)(3)(A) of the Act and 19 CFR 351.202(f), copies of the public version of the Petitions have been provided to the governments of India, Italy, and Spain via ACCESS. To the extent practicable, we will attempt to provide a copy of the public version of the Petitions to each exporter named in the Petitions, as provided under 19 CFR 351.203(c)(2).

ITC Notification

We will notify the ITC of our initiation, as required by section 732(d) of the Act.

Preliminary Determinations by the ITC

The ITC will preliminarily determine, within 45 days after the date on which the Petitions were filed, whether there is a reasonable indication that imports of steel flanges from India, Italy, and Spain are materially injuring or threatening material injury to a U.S. industry.⁴³ A negative ITC determination for any country will result in the investigation being terminated with respect to that country; ⁴⁴ otherwise, these investigations will proceed according to statutory and regulatory time limits.

⁴³ See section 733(a) of the Act.

⁴⁴ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by the Department; and (v) evidence other than factual information described in (i)-(iv). Any party, when submitting factual information, must specify under which subsection of 19 CFR 351.102(b)(21) the information is being submitted and, if the information is submitted to rebut, clarify, or correct factual information already on the record, to provide an explanation identifying the information already on the record that the factual information seeks to rebut, clarify, or correct. Time limits for the submission of factual information are addressed in 19 CFR 351.301, which provides specific time limits based on the type of factual information being submitted. Please review the regulations prior to submitting factual information in these investigations.

Extensions of Time Limits

Parties may request an extension of time limits before the expiration of a time limit established under part 351, or as otherwise specified by the Secretary. In general, an extension request will be considered untimely if it is filed after the expiration of the time limit established under part 351 expires. For submissions that are due from multiple parties simultaneously, an extension request will be considered untimely if it is filed after 10:00 a.m. on the due date. Under certain circumstances, we may elect to specify a different time limit by which extension requests will be considered untimely for submissions which are due from multiple parties simultaneously. In such a case, we will inform parties in the letter or memorandum setting forth the deadline (including a specified time) by which extension requests must be filed to be considered timely. An extension request must be made in a separate, stand-alone submission; under limited circumstances we will grant untimely-filed requests for the extension of time limits. Review Extension of Time Limits; Final Rule, 78 FR 57790 (September 20, 2013), available at http://www.gpo.gov/fdsys/pkg/FR-2013-09-20/html/2013-22853.htm, prior to submitting factual information in this segment.

Certification Requirements

Any party submitting factual information in an AD or CVD proceeding must certify to the accuracy and completeness of that information.⁴⁵ Parties are hereby reminded that revised certification requirements are in effect for company/government officials, as well as their representatives. Investigations initiated on the basis of Petitions filed on or after August 16, 2013, and other segments of any AD or CVD proceedings initiated on or after August 16, 2013, should use the formats for the revised certifications provided at the end of the Final Rule.⁴⁶ The Department intends to reject factual submissions if the submitting party does not comply with applicable revised certification requirements.

⁴⁵ See section 782(b) of the Act.

⁴⁶ See Certification of Factual Information to Import Administration during Antidumping and Countervailing Duty Proceedings, 78 FR 42678 (July 17, 2013) (Final Rule); see also frequently asked questions regarding the Final Rule, available at http://enforcement.trade.gov/tlei/notices/factual_info_final_rule_FAQ_07172013.pdf.

Notification to Interested Parties

Interested parties must submit applications for disclosure under APO in accordance with 19 CFR 351.305. On January 22, 2008, the Department published Antidumping and Countervailing Duty Proceedings: Documents Submission Procedures; APO Procedures, 73 FR 3634 (January 22, 2008). Parties wishing to participate in these investigations should ensure that they meet the requirements of these procedures (e.g., the filing of letters of appearance as discussed in 19 CFR 351.103(d)).

This notice is issued and published pursuant to section 777(i) of the Act.

Dated: July 20, 2016.
Paul Piquado,
Assistant Secretary for Enforcement and Compliance.

Appendix I—Scope of the Investigations

The scope of these investigations covers finished carbon steel flanges. Finished carbon steel flanges differ from unfinished carbon steel flanges (also known as carbon steel flange forgings) in that they have undergone further processing after forging, including, but not limited to, beveling, bore threading, center or step boring, face machining, taper boring, machining ends or surfaces, drilling bolt holes, and/or de-burring or shot blasting. Any one of these post-forging processes suffices to render the forging into a finished carbon steel flange for purposes of these investigations. However, mere heat treatment of a carbon steel flange forging (without any other further processing after forging) does not render the forging into a finished carbon steel flange for purposes of these investigations.

While these finished carbon steel flanges are generally manufactured to specification ASME 816.5 or ASME 816.47 series A or series 8, the scope is not limited to flanges produced under those specifications. All types of finished carbon steel flanges are included in the scope regardless of pipe size (which may or may not be expressed in inches of nominal pipe size), pressure class (usually, but not necessarily, expressed in pounds of pressure, e.g., 150, 300, 400, 600, 900, 1500, 2500, etc.), type of face (e.g., flat face, full face, raised face, etc.), configuration (e.g., weld neck, slip on, socket weld, lap joint, threaded, etc.), wall thickness (usually, but not necessarily, expressed in inches), normalization, or whether or not heat treated. These carbon steel flanges either meet or exceed the requirements of the ASTM A105, ASTM A694, ASTM A181, ASTM A350 and ASTM A707 standards (or comparable foreign specifications). The scope includes any flanges produced to the above-referenced ASTM standards as currently stated or as may be amended. The term “carbon steel” under this scope is steel in which:

(a) Iron predominates, by weight, over each of the other contained elements:

(b) The carbon content is 2 percent or less, by weight; and

(c) none of the elements listed below exceeds the quantity, by weight, as indicated:

(i) 0.87 percent of aluminum;

(ii) 0.0105 percent of boron;

(iii) 10.10 percent of chromium;

(iv) 1.55 percent of columbium;

(v) 3.10 percent of copper;

(vi) 0.38 percent of lead;

(vii) 3.04 percent of manganese;

(viii) 2.05 percent of molybdenum;

(ix) 20.15 percent of nickel;

(x) 1.55 percent of niobium;

(xi) 0.20 percent of nitrogen;

(xii) 0.21 percent of phosphorus;

(xiii) 3.10 percent of silicon;

(xiv) 0.21 percent of sulfur;

(xv) 1.05 percent of titanium;

(xvi) 4.06 percent of tungsten;

(xvii) 0.53 percent of vanadium; or

(xviii) 0.015 percent of zirconium.

Finished carbon steel flanges are currently classified under subheadings 7307.91.5010 and 7307.91.5050 of the Harmonized Tariff Schedule of the United States (HTSUS). They may also be entered under HTSUS subheadings 7307.91.5030 and 7307.91.5070. The HTSUS subheadings are provided for convenience and customs purposes; the written description of the scope is dispositive.

[FR Doc. 2016-17931 Filed 7-27-16; 8:45 a.m.]

BILLING CODE 3510-DS-P